DEPARTMENT OF THE INTERIOR

Fish and Wildlife Service

Notice of Availability of an Agency Draft Recovery Plan for the Endangered Fat Threeridge (Amblema neislerii), Shinyrayed Pocketbook (Lampsilis subangulata), Gulf Moccasinshell (Medionidus penicillatus), Ochlockonee Moccasinshell (Medionidus simpsonianus), and Oval Pigtoe (Pleurobema pyriforme), and the Threatened Chipola Slabshell (Elliptio chipolaensis) and Purple Bankclimber (Elliptoideus sloatianus), for Review and Comment

AGENCY: Fish and Wildlife Service, Interior.

ACTION: Notice of document availability and public comment period.

SUMMARY: We, the Fish and Wildlife Service, announce the availability of the agency draft recovery plan for seven freshwater mussels—the endangered fat threeridge (Amblema neislerii), shinyrayed pocketbook (Lampsilis subangulata), Gulf moccasinshell (Medionidus penicillatus), Ochlockonee moccasinshell (Medionidus simpsonianus), and oval pigtoe (Pleurobema pyriforme), and the threatened Chipola slabshell (Elliptio chipolaensis) and purple bankclimber (Elliptoideus sloatianus). These species are endemic to several river basins (Apalachicola-Chattahoochee-Flint, Ochlockonee, Suwannee, and Econfina Creek) in Alabama, Florida, and Georgia. Recent research has greatly increased our understanding of the ecology of these species. The agency draft recovery plan includes specific recovery objectives and criteria to be met in order to downlist these mussels to threatened status or delist them under the Endangered Species Act of 1973, (16 U.S.C. 1531 et seq.) as amended (Act). We solicit review and comment on this agency draft recovery plan from local, State, and Federal agencies and the public.

DATES: In order to be considered, we must receive comments on the draft recovery plan on or before August 18, 2003.

ADDRESSES: If you wish to review this agency draft recovery plan, you may obtain a copy by contacting the Panama City Field Office, U.S. Fish and Wildlife Service, 1601 Balboa Avenue, Panama City, Florida 32405 (telephone 850/769-0552), or by visiting our recovery plan Web site at http://www.endangered.fws.gov. If you wish to comment, you may submit your comments by any one of several methods:

1. You may submit written comments and materials to the Project Leader, at the above address.

2. You may hand-deliver written comments to our Panama City Field Office, at the above address, or fax your comments to 850/763-2177.

3. You may send comments by e-mail to jerry_ziewitz@fws.gov. For directions on how to submit electronic filing of comments, see the “Public Comments Solicited” section.

Comments and materials received are available on request for public inspection, by appointment, during normal business hours at the above address.

FOR FURTHER INFORMATION CONTACT: Jerry Ziewitz at the above address (telephone 850/769-0552, ext. 223).

SUPPLEMENTARY INFORMATION:

Background

Pursuant to the Act, we listed these seven mussels, five as endangered and two as threatened species, on March 16, 1998 (63 FR 12664). The seven freshwater mussels are restricted to a few river basins (Apalachicola-Chattahoochee-Flint, Ochlockonee, Suwannee, and Econfina Creek) in Alabama, Florida, and Georgia. They were once distributed across hundreds of stream miles in these basins and now survive in a few relatively small, isolated populations scattered throughout their former range.

Habitat alteration, including impoundments, channelization, gravel mining, contaminants, sedimentation, and stream-flow depletion, are likely the principal causes of these species' decline in range and abundance. Genetic factors associated with increasingly small and isolated populations and the introduction of alien species may present additional obstacles to their recovery.

Restoring an endangered or threatened animal or plant to the point where it is again a secure, self-sustaining member of its ecosystem is a primary goal of the endangered species program. To help guide the recovery effort, we are preparing recovery plans for most listed species native to the United States. Recovery plans describe actions considered necessary for conservation of the species, establish criteria for downlisting or delisting, and estimate time and cost for implementing recovery measures.

The Act requires the development of recovery plans for listed species unless such a plan would not promote the conservation of a particular species. Section 4(f) of the Act requires us to provide a public notice and an opportunity for public review and comment during recovery plan development. We will consider all information presented during a public comment period prior to approval of each new or revised recovery plan. We and other Federal agencies will take these comments into account in the course of implementing approved recovery plans.

We developed a technical/agency draft of this recovery plan and released it for review by the professional community, interested agencies, and the public on September 16, 1999 (64 FR 50301). We incorporated received comments, where appropriate, into this subsequent agency draft recovery plan, which we are now making available for review by all interested agencies and parties, including the general public.

The objective of this draft plan is to provide a framework for the recovery of these seven species so that protection under the Act is no longer necessary. As recovery criteria are met, the status of the species will be reviewed and they will be considered for removal from the Federal List of Endangered and Threatened Wildlife and Plants.

Public Comments Solicited

We solicit written comments on the recovery plan described. We will consider all comments received by the date specified above prior to final approval of the plan.

Please submit electronic comments as an ASCII file format and avoid the use of special characters and encryption. Please also include your name and return address in your e-mail message. If you do not receive a confirmation from the system that we have received your e-mail message, contact us directly by calling our Panama City Field Office (see ADDRESSES section).

Our practice is to make all comments, including names and home addresses of respondents, available for public review during regular business hours. Individual respondents may request that we withhold their home address from the record, which we will honor to the extent allowable by law. In some circumstances, we would withhold also from the record a respondent's identity, as allowable by law. If you wish for us to withhold your name and/or address, you must state this prominently at the beginning of your comments. However, we will not consider anonymous comments. We will make all submissions from organizations or businesses, and from individuals identifying themselves as representatives or officials of organizations or businesses, available for public inspection in their entirety.

Authority

The authority for this action is section 4(f) of the Endangered Species Act, 16 U.S.C. 1533 (f).

Dated: July 3, 2003.
J. Mitch King,
Acting Regional Director, Southeast Region, U.S. Fish and Wildlife Service.

[FR Doc. 03-18081 Filed 7-16-03; 8:45 am]

BILLING CODE 4310-55-P